DEPARTMENT OF JUSTICE

Notice of Lodging of Consent Decree Under the Clean Water Act (CWA)

Notice is hereby given that on March 31, 2009, a proposed Consent Decree in the case of U.S. v. City of Independence, Missouri, Civil Action No. 4:09-cv-00240-DGK, was lodged with the United States District Court for the Western District of Missouri.

The United States filed a complaint concurrently with the Consent Decree alleging that on numerous occasions the City of Independence illegally discharged pollutants, including wastewater containing raw sewage, from its sanitary sewer system into waters of the United States in violation of Section 301 of the CWA, 33 U.S.C. 1311. Under the Consent Decree, Independence will pay a civil penalty of $255,000 and be required to perform a comprehensive assessment of the sanitary sewer system, upgrade its pump stations, and implement improvements to its wastewater collection system and wastewater treatment plant. Independence will also perform supplemental environmental projects valued at $450,000. The environmental projects are designed to enhance water quality within the Missouri River watershed by improving storm water detention basins and stabilizing stream banks.

For thirty (30) days after the date of this publication, the Department of Justice will receive comments relating to the Consent Decree. Comments should be addressed to the Acting Assistant Attorney General, Environment and Natural Resources Division, and either e-mailed to pubcomment-ees.enrd@usdoj.gov or mailed to P.O. Box 7611, U.S. Department of Justice, Washington, DC 20044-7611. In either case, the comments should refer to U.S. v. City of Independence, Missouri, D.J. Ref. No. 90-5-1-1-08702.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax No. (202) 514-0097, phone confirmation number (202) 514-1547. In requesting a copy from the Consent Decree Library, please enclose a check in the amount of $10.00 (25 cents per page reproduction cost) payable to the United States Treasury or, if by e-mail or fax, forward a check in that amount to the Consent Decree Library at the stated address.

Maureen Katz,
Assistant Section Chief, Environmental Enforcement Section, Environment and Natural Resources Division.

[FR Doc. E9-8570 Filed 4-14-09; 8:45 am]

BILLING CODE 4410-15-P